ENVIRONMENTAL PROTECTION AGENCY

40 CFR Part 52

[MD107-3059, VA122 &123-5054; FRL-6899-2]

Approval and Promulgation of Air Quality Implementation Plans; Maryland and Virginia; Metropolitan Washington, D.C. Ozone Nonattainment Area; Extension of Comment Period

AGENCY: Environmental Protection Agency (EPA).

ACTION: Proposed rule; extension of the comment period.

SUMMARY: EPA is extending the comment period for a series of proposed rulemaking actions published on October 19, 2000. On this date, EPA proposed action on the following Maryland and Virginia provisions as revisions to their respective State Implementation Plans (SIP's): Maryland—New Source Review (65 FR 62675); and Virginia—Source-Specific Permits to Reduce NOX Emissions in the Metropolitan Washington, D.C. Ozone Nonattainment Area (65 FR 62666).

DATES: Comments must be received on or before November 20, 2000.

ADDRESSES: Comments may be mailed to Makeba Morris, Chief, Permits and Technical Assessment Branch, Mailcode 3AP11, U.S. Environmental Protection Agency, Region III, 1650 Arch Street, Philadelphia, Pennsylvania 19103.

FOR FURTHER INFORMATION CONTACT: 1. Maryland—New Source Review: Perry R. Pandya, U.S. EPA Region III, (215) 814-2167.

2. Virginia—Source-Specific Permits to Reduce NOX emissions in the Metropolitan Washington, D.C. Ozone Nonattainment Area: Michael Ioff, U.S. EPA Region III, (215) 814-2166.

Dated: October 31, 2000.
Bradley M. Campbell,
Regional Administrator, Region III.

[FR Doc. 00-28705 Filed 11-8-00; 8:45 am]

BILLING CODE 6560-50-P